INTERNATIONAL TRADE COMMISSION

[USITC SE-03-029]

Sunshine Act Meeting

Agency Holding the Meeting: United States International Trade Commission.

Time and Date: September 12, 2003, at 11 a.m.

Place: Room 101, 500 E Street,SW., Washington, DC 20436, Telephone: (202) 205-2000.

Status: Open to the public.

Matters To Be Considered: 1. Agenda for future meetings: none

2. Minutes

3. Ratification List

4. Inv. Nos. 731-TA-1048-1053 (Preliminary) Electrolytic Manganese Dioxide from Australia, China, Greece, Ireland, Japan, and South Africa)—briefing and vote. (The Commission is currently scheduled to transmit its determination to the Secretary of Commerce on or before September 15, 2003; Commissioners' opinions are currently scheduled to be transmitted to the Secretary of Commerce on or before September 22, 2003.)

5. Inv. Nos. 731-TA-1014 and 1017 (Final) (Polyvinyl Alcohol from China and Korea)—briefing and vote. (The Commission is currently scheduled to transmit its determination and Commissioners' opinions to the Secretary of Commerce on or before September 24, 2003.)

6. Outstanding action jackets: none.

In accordance with Commission policy, subject matter listed above, not disposed of at the scheduled meeting, may be carried over to the agenda of the following meeting.

Issued: September 3, 2003.
By order of the Commission:
Marilyn R. Abbott,
Secretary to the Commission.

[FR Doc. 03-22893 Filed 9-4-03; 10:58 am]

BILLING CODE 7020-02-P